DEPARTMENT OF HEALTH AND HUMAN SERVICES

Centers for Disease Control and Prevention

Expansion and Support of HIV/AIDS/STI/TB Information, Education, and Communication and Behavioral Change Communication Activities in Ethiopia

Announcement Type: New.

Funding Opportunity Number: RFA 05075.

Catalog of Federal Domestic Assistance Number: 93.067.

Key Dates: Application Deadline: June 2, 2005.

I. Funding Opportunity Description

Authority: This program is authorized under Sections 307 and 317(k)(2) of the Public Health Service Act, [42 U.S.C. Sections 242l and 247b(k)(2)], as amended, and under Pub. L. 108-25 (United States Leadership Against HIV/AIDS, Tuberculosis and Malaria Act of 2003) [22 U.S.C. 7601].

Purpose: The purpose of this program is to improve Human Immunodeficiency Virus/Acquired Immunodeficiency Syndrome/Sexually Transmitted Infections/Tuberculosis (HIV/AIDS/STI/TB) prevention and control information; education and communication (IEC); and behavioral change communication (BCC) efforts in Ethiopia, through effective programs aimed at: (1) Implementing various IEC/BCC interventions following the ABC model: abstinence, being faithful, and correct and consistent condom use; (2) Providing up-to-date and accurate information to government and non-government partners, journalists and media professionals, researchers, and the general public; (3) Building the capacity of journalists and media professionals, in order to make them capable of communicating quality information to the public; (4) Strengthening and maintaining the best quality for a multi-target focused Web site of the AIDS Resource Center (ARC), to make it a virtual information center; (5) Supporting the regionalization of the ARC; and (6) Strengthening the clearinghouse function of the ARC on all HIV/AIDS, voluntary counseling & testing (VCT), STI and TB materials (print and audiovisual), including the development of high-quality materials.

The U.S. Government (USG) has taken major steps to reduce the global impact of HIV/AIDS. Through the CDC Global AIDS Program (GAP), it is working with specific countries in sub-Saharan Africa, Asia, and the Americas. It has recently launched the President's International Prevention of Mother to Child Transmission (PMTCT) Initiative and the United States President's Emergency Plan for AIDS Relief (PEPFAR) in 2003 to support selected countries in Africa, Asia and the Caribbean. These initiatives aim at strengthening national capacities for: (1) HIV primary prevention; (2) HIV care, support, and treatment; and (3) health systems and infrastructure development. Targeted countries represent those with the most severe epidemics and the highest number of new infections. They also represent countries where the potential for impact is greatest and where USG agencies are already active.

As a key agency to ensure the implementation of USG's Global AIDS Initiatives, the President's International PMTCT Initiative, and the PEPFAR, CDC is working in a collaborative manner with national governments and other agencies to develop programs of assistance to address the HIV/AIDS epidemic in target countries, including Ethiopia. In particular, CDC's mission in Ethiopia is to work with Ethiopian and international partners to develop and apply effective interventions to prevent HIV infection and associated illness and death from AIDS.

Ethiopia is among the world's countries most adversely affected by the HIV/AIDS epidemic and TB. With an estimated 2.2 million adults infected with HIV by the end of 2001, Ethiopia has one of the largest populations of HIV-infected persons in the world. The estimated percentage of adults, ages 15 to 49, infected with HIV is 6.6 percent. There have been over a million cumulative deaths due to AIDS, with 280,000 occurring in 1999 alone. Based on 2001 surveillance data, it is estimated that 200,000 children are currently living with HIV and that one million children have been orphaned by AIDS. The principal routes of HIV transmission are heterosexual and mother-to-infant; HIV and other STIs are closely associated. The World Health Organization's (WHO) estimated TB incidence, prevalence and death rates for Ethiopia in 1997 were 260, 367, and 82 per 100,000 population, respectively, which represented 156,000 new cases, 221,000 infections and 49,000 deaths for that year. TB cases have been increasing over the years coincident with the HIV epidemic; HIV prevalence among TB patients is estimated at 40-50 percent. Data on STIs, however, is scant. These statistics suggest the need for the expansion and improvement of a range of surveillance, care, and prevention activities and services.

Given the complex nature of the causes and the serious impact of the HIV/AIDS epidemic in Ethiopia, forging a strong multi-sectoral and multi-level partnership and broad stakeholder involvement is imperative. The USG has therefore adopted an HIV/AIDS/STI/TB program that responds to these needs, and implementation mechanisms have been in place since 1998. The country is currently taking measures to accelerate the implementation of interventions that deliver comprehensive care to decrease illness and death; to lessen the number of children that are left orphaned by this disease; to promote acceptance of HIV counseling and testing services; and to strengthen local health care capacity. Health care facilities that are already at the frontline of the fight against HIV/AIDS/STI/TB are scaling up prevention, care, and support activities.

Effective dissemination of surveillance and other accurate and up to date information regarding HIV/AIDS/STI/TB transmission, prevention, program development and lessons learned are important for program managers; those involved in advocating for expanded action and broader societal response to prevention; and the general public. However, lack of accurate and up-to-date information, and disparities in the quality of this information between the towns and rural areas, where over 85 percent of the population resides, are still major challenges. There is, therefore, a strong need for strengthening the national ARC—the only ARC in the country—to better provide its various functions, including the Web site, a clearinghouse for information related to HIV/AIDS/STI/TB, and support for the establishment of regional ARCs of the same quality.

Measurable outcomes of the program will be in alignment with the following performance goal for the National Center for HIV, STD, and TB Prevention (NCHSTP): Initiate, expand or strengthen HIV/AIDS prevention, care, treatment and support globally. They also will continue to contribute to the goals of the PEPFAR, which are: (1) Within five years (by 2008) treat more than two million HIV-infected persons with effective combination anti-retroviral therapy; (2) care for ten million HIV-infected and affected persons, including those orphaned by HIV/AIDS; and (3) prevent seven million infections in 15 countries throughout the world.

The measurable outcomes of the program will be in alignment with the goals of the GAP, NCHSTP, to reduce HIV transmission and improve care of persons living with HIV.

This announcement is only for non-research activities supported by CDC. If research is proposed, the application will not be reviewed. For the definition of research, please see the CDC Web site at the following Internet address: http://www.cdc.gov/od/ads/opspoll1.htm.

Activities: Awardee activities for this program are as follows: The awardee is expected to manage and maintain the high quality standard of the ARC in Addis Ababa, Ethiopia, and provide technical assistance in the establishment of regional ARCs in the country. Specific tasks include:

1. Expand the centers' collection of up-to-date and accurate local and international materials on HIV/AIDS, STI, and TB.

2. Update and maintain existing ARC materials, organizational, funding, news, requests, and conference/calendar databases. In addition, develop databases for people living with HIV/AIDS (PLWHA) and experts/consultants working on HIV/AIDS in Ethiopia. Develop additional databases as the need arises.

3. Upgrade and maintain a multi-target focused ARC website; conduct usability assessments periodically and modify accordingly. Design and incorporate targeted sites for youth and PLWHA in the existing ARC website. Upgrade and maintain existing list serve.

4. Provide on-going technical assistance on developing strategic health communication programs for all HIV/AIDS stakeholders. Assist and support the production of print, audiovisual, and electronic HIV/AIDS, STI, and TB materials by all HIV/AIDS stakeholders, mainly AIDS service organization (ASO) partners in Ethiopia and other organizations and individuals interested in these types of materials.

5. Develop high quality, research-based, IEC/BCC materials on relevant HIV/AIDS topics such as VCT, Prevention of Mother to Child Transmission (PMTCT), antiretroviral therapy (ART), Living Positively, care and support, as well as STI's and TB. Facilitate the regional adaptation of the produced IEC/BCC materials. Continually monitor and evaluate the produced IEC/BCC materials, including how these topics affect orphans and vulnerable children (OVC).

6. Develop a clearinghouse and maintain an efficient distribution system for all local and international HIV/AIDS, STI, and TB materials (print, audio visual and electronic).

7. Create a materials distribution and outreach plan that utilizes indigenous leadership, including faith-based leaders.

8. Establish a state of the art audiovisual unit within the national ARC for the production, editing, duplication, and distribution of IEC/BCC audiovisual materials.

9. Provide technical assistance to the Community Health Department of Addis Ababa University to update the existing health communication curriculum to incorporate recent advances in health communication theories.

10. Maintain and upgrade the existing national HIV/AIDS hotline service and ensure services are made available to the regions. Develop a comprehensive national referral database for all HIV/AIDS, STI, and TB services. Develop/adapt all necessary hotline standards and procedures, training, information, monitoring and data capture tools for the hotline. Provide continued educational training for the hotline operators on HIV/AIDS, STI, TB and other related disciplines.

11. Develop and maintain strong partnerships with the media through training of journalists and media professionals. Provide continuous up-to-date and accurate information tool kits on HIV/AIDS, STI and TB for journalists and media professionals. Establish strong networking, and facilitate information exchange, amongst journalists and media professionals.

12. Provide technical assistance in the development/maintenance of regional ARCs in all regions. These include materials acquisition; establishment of a networking system between regional ARCs and the national ARC; and providing the regional ARCs access to the national ARC's databases and resources. Establish a hierarchical network system between regional ARCs and regional HIV/AIDS Prevention and Control Offices (HAPCOs), which are connected to the national ARC and HAPCO. Adapt centrally produced communication materials for the specific region, and facilitate the national hotline activities in the regions. Provide continuous training for all regional technical staff.

13. Establish a national information systems training center within the national resource center to provide continuous and extensive information technology (IT) training for all national and regional HAPCO and Ministry of Health (MOH) staff.

14. Build the capacity of the HAPCO staff to maintain and manage an ARC.

15. Provide technical assistance to improve the capacity of the Health Education Center (HEC) of the MOH to produce effective HIV/AIDS/STI/TB communication materials (print and audiovisual).

In a cooperative agreement, CDC staff is substantially involved in the program activities, above and beyond routine grant monitoring.

CDC Activities for this program are as follows:

1. Collaborate with the recipient on designing and implementing the activities listed above, including, but not limited to, providing technical assistance to develop and implement program activities, training, needs assessment, selection of quality assurances, data management, and presentations of activities, successes and challenges.

2. Monitor project and budget performance to ensure satisfactory progress towards the stated goals of the program.

3. Assist in the selection of key personnel to be involved in the activities performed under this cooperative agreement.

4. Assist in the identification and selection of sub-contractors/consultants for activities to be performed under this cooperative agreement.

5. Make available manuals, guidelines, or other related materials already developed by CDC-Ethiopia for other similar projects.

Technical assistance and training may be provided directly by CDC staff or through organizations that have successfully competed for funding under a separate CDC contract.

II. Award Information

Type of Award: Cooperative Agreement. CDC involvement in this program is listed in the Activities Section above.

Fiscal Year Funds: 2005.

Approximate Total Funding: $2,000,000. (This amount is an estimate for the entire five-year project period, and is subject to availability of funds.)

Approximate Number of Awards: One.

Approximate Average Award: $400,000. (This amount is for the first 12-month budget period, and includes both direct and indirect costs.)

Floor of Award Range: None.

Ceiling of Award Range: $400,000. (This ceiling is for the first 12-month budget period.)

Anticipated Award Date: July 1, 2005.

Budget Period Length: 12 months.

Project Period Length: Five years.

Throughout the project period, CDC's commitment to continuation of awards will be conditioned on the availability of funds, evidence of satisfactory progress by the recipient (as documented in required reports), and the determination that continued funding is in the best interest of the Federal Government.

III. Eligibility Information

Eligible applicants

Applications may be submitted by public and private nonprofit organizations and by governments and their agencies, such as:

• Public nonprofit organizations

• Private nonprofit organizations

• For profit organizations

• Universities

• Colleges

• Research institutions

• Hospitals

• Small, minority, women-owned businesses

• Community-based organizations

• Faith-based organizations

U.S. based and international organizations meeting eligibility criteria are welcome to apply.

Competition is limited to the above named eligible applicants because of the unique nature of the activities being proposed and the location of where these proposed activities will be conducted. The organizations listed will have direct experience in performing proposed activities in the Ethiopian context and working with Ethiopian counterparts. These types of organizations have worked successfully with CDC and GAP in the past to implement programming in this unique international context, similar to that being proposed through this RFA.

The organizations not listed above have been excluded from competition because they do not possess the resources, skills, or direct experience necessary to implement the programming and capacity building in Ethiopia being requested as part of this proposed funding opportunity.

Applicants must:

1. Have extensive experience in design, implementation, and evaluation of evidence-based BCC programs for health and HIV/AIDS in Ethiopia.

2. Have at least three years experience working in Ethiopia on BCC programs for health and HIV/AIDS, including experience in working with the public sector.

3. Have previous experience in the development of communication support for IEC/BCC initiatives in Ethiopia.

III.2. Cost Sharing or Matching

Matching funds are not required for this program.

III.3. Other

If you request a funding amount greater than the ceiling of the award range, your application will be considered non-responsive, and will not be entered into the review process. You will be notified that your application did not meet the submission requirements.

Special Requirements: If your application is incomplete or non-responsive to the special requirements listed in this section, it will not be entered into the review process. You will be notified that your application did not meet submission requirements.

• Late applications will be considered non-responsive. See section “Submission Dates and Times” for more information on deadlines.

• Note: Title 2 of the United States Code Section 1611 states that an organization described in Section 501(c)(4) of the Internal Revenue Code that engages in lobbying activities is not eligible to receive Federal funds constituting an award, grant, or loan.

IV. Application and Submission Information

IV.1. Address to Request Application Package

To apply for this funding opportunity use application form PHS 5161-1.

CDC strongly encourages you to submit your application electronically by utilizing the forms and instructions posted for this announcement at http://www.grants.gov.

Application forms and instructions are available on the CDC Web site, at the following Internet address: http://www.cdc.gov/od/pgo/forminfo.htm.

If you do not have access to the Internet, or if you have difficulty accessing the forms on-line, you may contact the CDC Procurement and Grants Office Technical Information Management Section (PGO-TIM) staff at: 770-488-2700. Application forms can be mailed to you.

IV.2. Content and Form of Submission

Application: You must submit a project narrative with your application forms. The narrative must be submitted in the following format:

• Maximum number of pages: 20. If your narrative exceeds the page limit, only the first pages which are within the page limit will be reviewed.

• Font size: 12-point unreduced.

• Double spaced.

• Paper size: 8.5 by 11 inches.

• Page margin size: One inch.

• Printed only on one side of page.

• Held together only by rubber bands or metal clips; not bound in any other way.

• All pages should be numbered.

• A complete index to the application and any appendices must be included.

• Your application MUST be submitted in English. Your narrative should address activities to be conducted over the entire project period, and must include the following items in the order listed:

• Background—what are the underlying issues related to undertaking this project?

• Objectives—what objectives will be achieved by undertaking this project?

• Methods—what methods will be used to achieve stated objectives?

• Timeline—what is the timeframe for completing stated objectives?

• Staff—what staff will be employed to carry out the project?

• Understanding—demonstrate a knowledge of the elements involved in implementing this project.

• Performance Measures—what measures will be used to determine if the objectives of the project are being met?

• Budget—what are the costs associated with implementing the project?

• Budget Justification—how are the costs related to implementing the project justified?

The budget and budget justification will not be counted in the page limit stated above.

Additional information may be included in the application appendices. The appendices will not be counted toward the narrative page limit. Additional information could include, but is not limited to: Resumes, Letters of Support, etc.

You are required to have a Dun and Bradstreet Data Universal Numbering System (DUNS) number to apply for a grant or cooperative agreement from the Federal government. The DUNS number is a nine-digit identification number, which uniquely identifies business entities. Obtaining a DUNS number is easy and there is no charge. To obtain a DUNS number, access www.dunandbradstreet.com or call 1-866-705-5711.

For more information, see the CDC Web site at: http://www.cdc.gov/od/pgo/funding/pubcommt.htm. If your application form does not have a DUNS number field, please write your DUNS number at the top of the first page of your application, and/or include your DUNS number in your application cover letter.

Additional requirements that may require you to submit additional documentation with your application are listed in section “VI.2.Administrative and National Policy Requirements.”

IV.3. Submission Dates and Times

Application Deadline Date: June 2, 2005.

Explanation of Deadlines: Applications must be received in the CDC Procurement and Grants Office by 4 p.m. eastern time on the deadline date.

You may submit your application electronically at http://www.grants.gov. Applications completed online through Grants.gov are considered formally submitted when the applicant organization's Authorizing Official electronically submits the application to http://www.grants.gov. Electronic applications will be considered as having met the deadline if the application has been submitted electronically by the applicant organization's Authorizing Official to Grants.gov on or before the deadline date and time.

If you submit your application electronically with Grants.gov, your application will be electronically time/date stamped, which will serve as receipt of submission. You will receive an e-mail notice of receipt when CDC receives the application.

If you submit your application by the United States Postal Service or commercial delivery service, you must ensure that the carrier will be able to guarantee delivery by the closing date and time. If CDC receives your submission after closing due to: (1) Carrier error, when the carrier accepted the package with a guarantee for delivery by the closing date and time, or (2) significant weather delays or natural disasters, you will be given the opportunity to submit documentation of the carriers guarantee. If the documentation verifies a carrier problem, CDC will consider the submission as having been received by the deadline.

If you submit a hard copy application, CDC will not notify you upon receipt of your submission. If you have a question about the receipt of your application, first contact your courier. If you still have a question, contact the PGO-TIM staff at: 770-488-2700. Before calling, please wait two to three days after the submission deadline. This will allow time for submissions to be processed and logged.

This announcement is the definitive guide on application content, submission address, and deadline. It supersedes information provided in the application instructions. If your submission does not meet the deadline above, it will not be eligible for review, and will be discarded. You will be notified that you did not meet the submission requirements.

IV.4. Intergovernmental Review of Applications

Executive Order 12372 does not apply to this program.

IV.5. Funding Restrictions

Restrictions, which must be taken into account while writing your budget, are as follows:

• Funds may not be used for research.

• Reimbursement of pre-award costs is not allowed.

• Antiretroviral Drugs—The purchase of antiretrovirals, reagents, and laboratory equipment for antiretroviral treatment projects require pre-approval from the GAP headquarters.

• Needle Exchange—No funds appropriated under this Act shall be used to carry out any program of distributing sterile needles or syringes for the hypodermic injection of any illegal drug.

• Funds may be spent for reasonable program purposes, including personnel, training, travel, supplies and services. Equipment may be purchased and renovations completed if deemed necessary to accomplish program objectives; however, prior approval by CDC officials must be requested in writing.

• All requests for funds contained in the budget shall be stated in U.S. dollars. Once an award is made, CDC will not compensate foreign grantees for currency exchange fluctuations through the issuance of supplemental awards.

• The costs that are generally allowable in grants to domestic organizations, are allowable to foreign institutions and international organizations, with the following exception: With the exception of the American University, Beirut, and the World Health Organization, Indirect Costs will not be paid (either directly or through sub-award) to organizations located outside the territorial limits of the United States or to international organizations, regardless of their location.

• The applicant may contract with other organizations under this program, however, the applicant must perform a substantial portion of the activities, including program management and operations, and delivery of prevention and care services for which funds are requested.

• You must obtain an annual audit of these CDC funds (program-specific audit) by a U.S.-based audit firm with international branches and current licensure/authority in-country, and in accordance with International Accounting Standards or equivalent standard(s) approved in writing by CDC.

• A fiscal Recipient Capability Assessment may be required, prior to or post award in order to review the applicant's business management and fiscal capabilities regarding the handling of U.S. Federal funds.

• Prostitution and Related Activities

The U.S. Government is opposed to prostitution and related activities, which are inherently harmful and dehumanizing, and contribute to the phenomenon of trafficking in persons.

Any entity that receives, directly or indirectly, U.S. Government funds in connection with this document (“recipient”) cannot use such U.S. Government funds to promote or advocate the legalization or practice of prostitution or sex trafficking. Nothing in the preceding sentence shall be construed to preclude the provision to individuals of palliative care, treatment, or post-exposure pharmaceutical prophylaxis, and necessary pharmaceuticals and commodities, including test kits, condoms, and, when proven effective, microbicides. A recipient that is otherwise eligible to receive funds in connection with this document to prevent, treat, or monitor HIV/AIDS shall not be required to endorse or utilize a multisectoral approach to combating HIV/AIDS, or to endorse, utilize, or participate in a prevention method or treatment program to which the recipient has a religious or moral objection. Any information provided by recipients about the use of condoms as part of projects or activities that are funded in connection with this document shall be medically accurate and shall include the public health benefits and failure rates of such use.

In addition, any recipient must have a policy explicitly opposing prostitution and sex trafficking. The preceding sentence shall not apply to any “exempt organizations” (defined as the Global Fund to Fight AIDS, Tuberculosis and Malaria, the World Health Organization, the International AIDS Vaccine Initiative or to any United Nations agency), but does apply to any non-governmental, non-exempt organization entity receiving U.S. government funds from an exempt organization in connection with this document.

The following definition applies for purposes of this clause:

• Sex trafficking means the recruitment, harboring, transportation, provision, or obtaining of a person for the purpose of a commercial sex act. 22 U.S.C. 7102(9).

All recipients must insert provisions implementing the applicable parts of this section, “Prostitution and Related Activities,” in all sub-agreements under this award. These provisions must be express terms and conditions of the sub-agreement, must acknowledge that compliance with this section, “Prostitution and Related Activities,” is a prerequisite to receipt and expenditure of U.S. government funds in connection with this document, and must acknowledge that any violation of the provisions shall be grounds for unilateral termination of the agreement prior to the end of its term. Recipients must agree that HHS may, at any reasonable time, inspect the documents and materials maintained or prepared by the recipient in the usual course of its operations that relate to the organization's compliance with this section, “Prostitution and Related Activities.”

All prime recipients receiving U.S. Government funds (“prime recipients”) in connection with this document must certify compliance (pending OMB clearance) prior to actual receipt of such funds in a written statement referencing this document (e.g., “[Prime recipient's name] certifies compliance with the section,” Prostitution and Related Activities.’ ”) addressed to the agency's grants officer. Such certifications by prime recipients are prerequisites to the payment of any U.S. government funds in connection with this document.

Recipients' compliance with this section, “Prostitution and Related Activities,” is an express term and condition of receiving U.S. government funds in connection with this document, and any violation of it shall be grounds for unilateral termination by HHS of the agreement with HHS in connection with this document prior to the end of its term. The recipient shall refund to HHS the entire amount furnished in connection with this document in the event it is determined by HHS that the recipient has not complied with this section, “Prostitution and Related Activities.”

For U.S. based organizations interested in applying, if you are requesting indirect costs in your budget, you must include a copy of your indirect cost rate agreement. If your indirect cost rate is a provisional rate, the agreement should be less than 12 months of age.

Guidance for completing your budget can be found on the CDC Web site, at the following Internet address: http://www.cdc.gov/od/pgo/funding/budgetguide.htm.

IV.6. Other Submission Requirements

Application Submission Address

CDC strongly encourages applicants to submit electronically at: http://www.grants.gov. You will be able to download a copy of the application package from http://www.grants.gov, complete it offline, and then upload and submit the application via the Grants.gov site. E-mail submissions will not be accepted. If you are having technical difficulties in Grants.gov, they can be reached by E-mail at http://www.support@grants.gov or by phone at 1-800-518-4726 (1-800-518-GRANTS). The Customer Support Center is open from 7 a.m. to 9 p.m. Eastern Time, Monday through Friday.

CDC recommends that you submit your application to Grants.gov early enough to resolve any unanticipated difficulties prior to the deadline. You may also submit a back-up paper submission of your application. Any such paper submission must be received in accordance with the requirements for timely submission detailed in Section IV.3. of the grant announcement. The paper submission must be clearly marked: “BACK-UP FOR ELECTRONIC SUBMISSION.” The paper submission must conform to all requirements for non-electronic submissions. If both electronic and back-up paper submissions are received by the deadline, the electronic version will be considered the official submission.

It is strongly recommended that you submit your grant application using Microsoft Office products (e.g., Microsoft Word, Microsoft Excel, etc.). If you do not have access to Microsoft Office products, you may submit a PDF file. Directions for creating PDF files can be found on the Grants.gov Web site. Use of file formats other than Microsoft Office or PDF may result in your file being unreadable by our staff; or Submit the original and two hard copies of your application by mail or express delivery service to: Technical Information Management-RFA 05075, CDC Procurement and Grants Office, 2920 Brandywine Road, Atlanta, GA 30341.

V. Application Review Information

V.1. Criteria

Applicants are required to provide measures of effectiveness that will demonstrate the accomplishment of the various identified objectives of the cooperative agreement. Measures of effectiveness must relate to the performance goals stated in the “Purpose” section of this announcement. Measures must be objective and quantitative, and must measure the intended outcome. These measures of effectiveness must be submitted with the application and will be an element of evaluation.

Your application will be evaluated against the following criteria:

1. Plans for Administration and Management of the Project (25 points)

Does the applicant's proposal include a plan, objectives, and methods that meet the program objectives? Does the described evaluation methodology meet the plans of the project?

2. Technical and Programmatic Approach (25 points)

Does the applicant's proposal demonstrate an understanding of how to develop, promote, implement, monitor and evaluate activities listed above?

3. Ability to Carry Out the Project (20 points)

Does the applicant demonstrate their organizational capability to achieve the purpose of the project?

4. Personnel (20 points)

Are the professional personnel involved in this project qualified? Is there evidence of experience in working with HIV/AIDS/STI/TB?

5. Understanding the Problem (10 points)

Does the applicant's proposal demonstrate a clear and concise understanding of the general AIDS epidemic situation, the policy environment, and current training and research needs in Ethiopia, including how OVC are affected?

6. Budget (Not scored, but evaluated)

Is the itemized budget for conducting the project reasonable and well justified?

V.2. Review and Selection Process

Applications will be reviewed for completeness by the Procurement and Grants Office (PGO) staff, and for responsiveness by NCHSTP. Incomplete applications and applications that are non-responsive to the eligibility criteria will not advance through the review process. Applicants will be notified that their application did not meet submission requirements.

An objective review panel will evaluate complete and responsive applications according to the criteria listed in the “V.1. Criteria” section above. The review will be conducted by CDC employees outside of the National Center for HIV, STD, and TB Prevention (NCHSTP).

Applications will be funded in order by score and rank determined by the review panel. CDC will provide justification for any decision to fund out of rank order.

V.3. Anticipated Announcement and Award Dates

July 1, 2005.

VI. Award Administration Information

VI.1. Award Notices

Successful applicants will receive a Notice of Award (NoA) from the CDC Procurement and Grants Office. The NoA shall be the only binding, authorizing document between the recipient and CDC. The NoA will be signed by an authorized Grants Management Officer, and mailed to the recipient fiscal officer identified in the application.

Unsuccessful applicants will receive notification of the results of the application review by mail.

VI.2. Administrative and National Policy Requirements

45 CFR Part 74 and Part 92

For more information on the Code of Federal Regulations, see the National Archives and Records Administration at the following Internet address: http://www.access.gpo.gov/nara/cfr/cfr-table-search.html.

The following additional requirements apply to this project:

• AR-4 HIV/AIDS Confidentiality Provisions

• AR-10 Smoke-Free Workplace Requirements

• AR-11 Healthy People 2010

• AR-12 Lobbying Restrictions

• AR-14 Accounting System Requirements

• AR-15 Proof of Non-Profit Status

Additional information on these requirements can be found on the CDC Web site at the following Internet address: http://www.cdc.gov/od/pgo/funding/ARs.htm.

An additional Certifications form from the PHS 5161-1 application needs to be included in your Grants.gov electronic submission only. Refer to http://www.cdc.gov/od/pgo/funding/PHS5161-1Certificates.pdf. Once the form is filled out, attach it to your Grants.gov submission as Other Attachment Forms.

VI.3. Reporting Requirements

You must provide CDC with an original, plus two hard copies of the following reports:

1. Interim progress report, due no less than 90 days before the end of the budget period. The progress report will serve as your non-competing continuation application, and must contain the following elements:

a. Current Budget Period Activities Objectives.

b. Current Budget Period Financial Progress.

c. New Budget Period Program Proposed Activity Objectives.

d. Budget.

e. Measures of Effectiveness.

f. Additional Requested Information.

2. Annual progress report, due 90 days after the end of the budget period.

3. Financial status report, no more than 90 days after the end of the budget period.

4. Final financial and performance reports, no more than 90 days after the end of the project period.

These reports must be mailed to the Grants Management or Contract Specialist listed in the “Agency Contacts” section of this announcement.

VII. Agency Contacts

We encourage inquiries concerning this announcement.

For general questions, contact: Technical Information Management Section, CDC Procurement and Grants Office, 2920 Brandywine Road, Atlanta, GA 30341. Telephone: 770-488-2700.

For program technical assistance, contact: Tadesse Wuhib, MD, MPH, Country Director, CDC-Ethiopia, P.O. Box 1014, Entoto Road, Addis Ababa. Telephone: (Office) 251-1-66-95-33. (Cell) 251-9-228543. E-mail address: wuhibt@etcdc.com.

For financial, grants management, or budget assistance, contact: Shirley Wynn, Contract Specialist, CDC Procurement and Grants Office, 2920 Brandywine Road, Atlanta, GA 30341. Telephone: 770-488-1515. E-mail: SWynn@cdc.gov.

VIII. Other Information

This and other CDC funding opportunity announcements can be found on the CDC Web site, Internet address: http://www.cdc.gov. Click on “Funding” then “Grants and Cooperative Agreements.”

Dated: April 26, 2005.
William P. Nichols,
Director, Procurement and Grants Office, Centers for Disease Control and Prevention.

[FR Doc. 05-8760 Filed 5-2-05; 8:45 am]

BILLING CODE 4163-18-P